DEPARTMENT OF TRANSPORTATION

National Highway Traffic Safety Administration

Reports, Forms, and Record Keeping Requirements: Agency Information Collection Activity Under OMB Review

AGENCY: National Highway Traffic Safety Administration (NHTSA), U.S. Department of Transportation (DOT).

ACTION: Notice.

SUMMARY: In compliance with the Paperwork Reduction Act of 1995, this notice announces that the Information Collection Request (ICR) abstracted below has been forwarded to the Office of Management and Budget (OMB) for review and comment. The ICR describes the nature of the information collection and the expected burden. The agency did not receive comments on the Federal Register notice with a 60-day comment period.

DATES: Comments must be submitted on or before September 11, 2017.

ADDRESSES: Send comments, within 30 days, to the Office of Information and Regulatory Affairs, Office of Management and Budget, 725 17th Street NW., Washington, DC 20503, Attention NHTSA Desk Officer.

FOR FURTHER INFORMATION CONTACT: Mary T. Byrd, Office of Behavioral Safety Research (NPD-320), National Highway Traffic Safety Administration, 1200 New Jersey Avenue SE., W46-466, Washington, DC 20590. Ms. Byrd's phone number is 202-366-5595 and her email address is Mary.Byrd@dot.gov.

SUPPLEMENTARY INFORMATION:

Title: Psychological Constructs Related to Seat Belt Use (PCRSBU).

Type of Request: New information collection requirement.

Abstract: Seat belts reduce the risk of death by 45% among drivers and front-seat passenger car occupants and by 60% among drivers and front-seat light truck occupants across all crash types—yet, not everyone uses a seat belt on every trip. According to the latest National Occupant Protection Use Survey (NOPUS), seat belt use in the United States was 90% in 2016. Although a high percentage of people were observed wearing seat belts through NOPUS, among passenger vehicle occupants killed in motor vehicle crashes in 2015, only 52% were wearing a seat belt. Thus, there is still room to save lives by getting more people to wear seat belts. In order to develop programs with potential to reach those who do not wear seat belts, we need to know as much as we can about this group. Currently, we know a lot about the demographic correlates of seat belt use (e.g., age, gender), but we do not know much about other individual-level contributors to nonuse. The purpose of this research is to identify psychological constructs and psychosocial factors associated with the non-use and part-time use of seat belts to inform the development of countermeasures.

The National Highway Traffic Safety Administration (NHTSA) proposes to conduct a nationally representative web-based survey using the Growth for Knowledge (GfK) KnowledgePanel, a probability-based web panel that has been in existence since 1999, to identify psychological constructs and psychosocial factors associated with the non-use and part-time use of seat belts. The survey would measure self-reported seat belt use, psychosocial factors, and psychological constructs to understand how these factors are related. The proposed survey is titled, “Psychological Constructs Related to Seat Belt Use” (PCRSBU).

Affected Public: Under this proposed data collection, the potential respondent universe would be U.S. residents aged 16 years or older who have driven or ridden in a motor vehicle within the past year. Survey participants would be recruited from the KnowledgePanel using email invitations to obtain 6,000 completed surveys. Each participant would complete a single survey; there would be no request for additional follow-up information or response.

Estimated Total Annual Burden: The total respondent burden for this data collection would be 2,070 hours. NHTSA would contact a maximum of 20,394 KnowledgePanel panelists by email to obtain 6,000 completed interviews. Of the 20,394 panelists contacted, it is estimated that approximately 50% or 10,197 potential respondents would log into the web portal to complete the screener instrument. The estimated burden for the screener is 170 hours (10,197 * 1 minute = 10,197 minutes/60 = 170 hours). Based upon the screening questions as well as the sampling plan, it is estimated 510 respondents would not be eligible and that 3,371 eligible respondents would not be sampled. Based upon a 95% completion rate among the 6,316 sampled respondents, it is anticipated that 6,000 respondents would complete the full survey. The estimated burden for the full survey, which would average 19 minutes in length, is 1,900 hours (6,000 * 19 minutes = 114,000 minutes/60 = 1,900 hours). The estimated burden for this data collection is 170 hours for the screener and 1,900 hours for the full survey for a total of 2,070 hours.

Comments are invited on the following:

• Whether the proposed collection of information is necessary for the proper performance of the functions of the agency, including whether the information will have practical utility;

• The accuracy of the agency's estimate of the burden of the proposed information collection;

• Ways to enhance the quality, utility, and clarity of the information to be collected; and

• Ways to minimize the burden of the collection of information on respondents, including the use of automated collection techniques or other forms of information technology.

A comment to OMB is most effective if OMB receives it within 30 days of publication.

Authority: 44 U.S.C. Section 3506(c)(2)(A).

Issued in Washington, DC, on August 1, 2017.
Jeff Michael,
Associate Administrator, Research and Program Development.

[FR Doc. 2017-16599 Filed 8-9-17; 8:45 am]

BILLING CODE 4910-59-P